DEPARTMENT OF HOMELAND SECURITY

Federal Emergency Management Agency

[Docket ID: FEMA-2016-0031; OMB No. 1660-0086]

Agency Information Collection Activities: Proposed Collection; Comment Request; Write Your Own (WYO) Company Participation Criteria; New Applicant

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the type of information that insurance companies that wish to join the National Flood Insurance Program's Write Your Own Program may need to submit to FEMA to show their ability to meet their responsibilities to FEMA and to their customers.

DATES: Comments must be submitted on or before January 23, 2017.

ADDRESSES: To avoid duplicate submissions to the docket, please use only one of the following means to submit comments:

(1) Online. Submit comments at www.regulations.gov under Docket ID FEMA-2016-0031. Follow the instructions for submitting comments.

(2) Mail. Submit written comments to Docket Manager, Office of Chief Counsel, DHS/FEMA, 500 C Street SW., 8NE., Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Susan Berstein, Esq. I&PR, Mitigation, National Flood Insurance Program, (202) 212-2113. You may contact the Records Management Division for copies of the proposed collection of information at email address: FEMA-Information-Collections-Management@fema.dhs.gov.

SUPPLEMENTARY INFORMATION: Under the National Flood Insurance Program's (NFIP) Write Your Own (WYO) Program, FEMA may enter into arrangements authorized by the National Flood Insurance Act of 1968, as amended (the Act) with individual private sector insurance companies that are licensed to engage in the business of property insurance. These companies may offer flood insurance coverage to eligible property owners utilizing their customary business practice. To facilitate the marketing of flood insurance, the federal government will be a guarantor of flood insurance coverage for WYO companies policies issued under the WYO Program Financial Assistance/Subsidy Arrangement (Arrangement). To ensure that a company seeking to return or participate in the WYO program is qualified, FEMA is requiring a one-time submission of information to determine the company's qualifications, as set forth in 44 CFR 62.24.

Collection of Information

Title: Write Your Own (WYO) Company Participation Criteria; New Applicant

Type of Information Collection: Extension, without change, of a currently approved information collection.

OMB Number: 1660-0086.

FEMA Forms: There is no FEMA form number.

Abstract: Under the NFIP, WYO Program, FEMA may enter into arrangements with individual private sector insurance companies that are licensed to engage in the business of offering NFIP flood insurance coverage. The federal government acts as underwriter of this flood insurance. To ensure that a company seeking to return or participate in the WYO program is qualified, FEMA requires an initial submission of information to determine the company's qualifications, as set forth in 44 CFR 62.24.

Affected Public: Business or other for-profit.

Number of Respondents: 5.

Number of Responses: 5.

Estimated Total Annual Burden Hours: 35.

Estimated Cost: $1727.95.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: November 17, 2016.
Richard W. Mattison
Records Management Program Chief, Mission Support, Federal Emergency Management Agency, Department of Homeland Security.

[FR Doc. 2016-28129 Filed 11-22-16; 8:45 am]

BILLING CODE 9111-52-P